NUCLEAR REGULATORY COMMISSION

Sunshine Federal Register Notice

DATE: Weeks of August 14, 21, 28, September 4, 11, 18, 2006.

PLACE: Commissioners' Conference Room, 11555 Rockville Pike, Rockville, Maryland.

STATUS: Public and Closed.

MATTERS TO BE CONSIDERED

Week of August 17, 2006

Thursday, August 17, 2006

10 a.m. Affirmation Session (Public Meeting) (Tentative).

a. Louisiana Energy Services, LP (National Enrichment Facility) Docket No. 70-3103-ML, Petitions for Review of LBP-06-15. (Tentative).

b. Pacific Gas & Elec. Co. (Diablo Canyon ISFSI), Docket No. 72-26-ISFSI “Motion by San Luis Obispo Mothers for Peace, Sierra Club, and Peg Pinard for Declaratory and Injunctive Relief with respect to Diablo Canyon ISFSI” (Tentative).

c. AmerGen Energy Company, LLC (License Renewal for Oyster Creek Nuclear Generating Station) Docket No. 50-0219, Legal challenges to LBP-06-07 and LBP-06-11 (Tentative).

Week of August 21, 2006—Tentative

There are no meetings scheduled for the Week of August 21, 2006.

Week of August 28, 2006—Tentative

There are no meetings scheduled for the Week of August 28, 2006.

Week of September 4, 2006—Tentative

There are no meetings scheduled for the Week of September 4, 2006.

Week of September 11, 2006—Tentative

Monday, September 11, 2006 9:30 p.m.

Discussion of Security Issues (Closed—Ex. 1).

1:30 p.m.emsp;Discussion of Security Issues (Closed—Ex. 1 & 3).

Tuesday, September 12, 2006

9:30 a.m. Meeting with Organization of Agreement States (OAS) and Conference of Radiation Conrol Program Directors (CRCPD) (Public Meeting) (Contact: Shawn Smith, 301-415-2620).

This meeting will be webcast live at the Web address— http://www.nrc.gov.

1 p.m. Discussion of Security Issues (Closed—Ex. 1).

Week of September 18, 2006—Tentative

There are no meetings scheduled for the Week of September 18, 2006.

* The schedule for Commission meetings is subject to change on short notice. To verify the status of meetings call (recording)—(301) 415-1292. Contact person for more information: Michelle Schroll, (301) 415-1662.

The NRC Commission Meeting Schedule can be found on the Internet at: www.nrc.gov/what-we-do/policy-making/schedule.html.

The NRC provides reasonable accommodation to individuals with disabiloities where appropriate. If you need a reasonable acommodation to participate in these public meetings, or need this meeting notice or the transcript or other information from the public meetings in another format (e.g., braille, large print), please notify the NRC's Disability Program Coordinator, Deborah Chan, at 301-415-7041, TDD: 301-415-2100, or by E-mail at DLC@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 10, 2008.
R. Michelle Schroll,
Office of the Secretary.

[FR Doc. 06-6939 Filed 8-11-06; 9:59 am]

BILLING CODE 7590-01-M